ENVIRONMENTAL PROTECTION AGENCY

40 CFR Part 52

Approval and Promulgation of Implementation Plans; Mississippi

CFR Correction

In title 40 of the Code of Regulations, part 52.1019 to End, revised as of July 1, 2007, on page 222, in section 52.1270, in the table in paragraph (c), under APC-S-2, the entry for Section VI, is corrected in the column titled “EPA approval date”, is corrected to read “7/10/2006, 71 FR 38775”.

[FR Doc. E8-11526 Filed 5-21-08; 8:45 am]

BILLING CODE 1505-01-D